DEPARTMENT OF THE INTERIOR

Fish and Wildlife Service

Availability of an Environmental Assessment and Receipt of an Application for an Incidental Take Permit for the Harley John Reservoir Replacement in Riverside County, CA

AGENCY: Fish and Wildlife Service, Interior.

ACTION: Notice of availability and receipt of application.

SUMMARY: Western Municipal Water District (Applicant) has applied to the Fish and Wildlife Service (Service) for an incidental take permit pursuant to section 10(a)(1)(B) of the Endangered Species Act (Act) of 1973, as amended. The Service is considering issuing a 3-year permit to the Applicant that would authorize take of the threatened coastal California gnatcatcher (Polioptila californica californica, “gnatcatcher”) incidental to otherwise lawful activities associated with the replacement of an existing 300,000 gallon water tank reservoir with a 4 million gallon reservoir on 2.7 acres in Riverside County, California. The project would result in the incidental take of one pair of gnatcatchers on the project site through permanent removal of approximately 2.3 acres of habitat.

We request comments from the public on the permit application and an Environmental Assessment, both of which are available for review. The permit application includes the proposed Habitat Conservation Plan (HCP) and an accompanying Implementing Agreement. The HCP describes the proposed action and the measures that the Applicant will undertake to minimize and mitigate take of the gnatcatcher. To review the permit application or Environmental Assessment, see “Availability of Documents” in the SUPPLEMENTARY INFORMATION section.

DATES: We must receive your written comments on or before July 21, 2003.

ADDRESSES: Please address written comments to Mr. Jim Bartel, Field Supervisor, U.S. Fish and Wildlife Service, 6010 Hidden Valley Road, Carlsbad, California 92009. You also may send comments by facsimile to (760) 918-0638.

FOR FURTHER INFORMATION CONTACT: Ms. Karen Evans, Assistant Field Supervisor, at the above address or call (760) 431-9440.

SUPPLEMENTARY INFORMATION:

Availability of Documents

You may obtain copies of these documents for review by contacting the Assistant Field Supervisor (FOR FURTHER INFORMATION CONTACT). Documents also will be available for public inspection, by appointment, during normal business hours at the above address (see ADDRESSES) and at the Woodcrest Library, Riverside County Library System, 17024 Van Buren Blvd., Riverside, California.

Background

Section 9 of the Act and federal regulations prohibit the “take” of fish and wildlife species listed as endangered or threatened. Take of federally listed fish and wildlife is defined under the Act as including to “harass, harm, pursue, hunt, shoot, wound, kill, trap, capture, or collect, or to attempt to engage in any such conduct.” The Service may, under limited circumstances, issue permits to authorize incidental take (i.e., take that is incidental to, and not the purpose of, the carrying out of an otherwise lawful activity). Regulations governing incidental take permits for threatened species are found in 50 CFR 17.32.

The Applicant proposes to replace an existing 300,000-gallon reservoir with a 4-million gallon reservoir on 2.7 acres. The project site is located approximately one-quarter mile west of Harley John Road, two-thirds of a mile north of Cajalco Road, one-half mile east of El Sobrante Road, and one-quarter mile south of Scottsdale Drive, in Riverside County, California. The existing water tank has been in use for approximately 40 years. The project site occurs at the northern periphery of the Lake Mathews Estelle Mountain Reserve. Rural residences and orchards exist southeast of the site. The project site contains and is adjacent to gnatcatcher habitat within the Lake Mathews region. The project site does not occur within gnatcatcher proposed critical habitat.

One pair of gnatcatchers and a juvenile were detected during surveys conducted according to Service protocol in 1994, 1999, and 2000. Based on these survey results, the Service concluded that implementation of the proposed project will likely result in take of one pair of gnatcatchers through the permanent removal of 2.3 acres of vegetation on the 2.7-acre site.

The federally endangered Quino checkerspot butterfly (Euphydryas editha quino) was not detected on the project site during a survey conducted in 1999. The federally endangered Stephens' kangaroo rat (Dipodomys stephensi) may occupy portions of the proposed project site; however, no Stephens' kangaroo rat surveys have been conducted at the project site. Because the proposed project site occurs within the plan area boundary of the Habitat Conservation Plan for the Stephens' Kangaroo Rat in Western Riverside County, California (March 1996), compliance with this Plan and its associated implementation agreement will be required prior to any ground-disturbing activities.

To mitigate take of gnatcatchers on the project site, the Applicant proposes to purchase 7 credits towards conservation in perpetuity of 7 acres of gnatcatcher habitat, composed of riversidean sage scrub vegetation, from an off-site conservation bank in western Riverside County. The conservation bank collects fees supporting a management endowment to ensure the permanent management and monitoring of sensitive species and habitats, including the gnatcatcher, within the area protected by the bank.

Although not reflected in the HCP and Implementing Agreement available for public comment, we anticipate that the conservation bank landowner and land manager will be signatories to the Agreement, committing to the protection, management, and monitoring of the conservation bank lands to conserve riversidean sage scrub habitat and gnatcatchers in perpetuity.

The Service's Environmental Assessment considers the environmental consequences of two alternatives, including: (1) The Proposed Project Alternative, which consists of issuance of the incidental take permit and implementation of the HCP and Implementing Agreement; and (2) the No Action Alternative, which consists of no permit issuance and no replacement of the reservoir at this time. The alternative to the Proposed Project Alternative would result in less long-term conservation for the gnatcatcher within western Riverside County, as it would not contribute as much, or at all, to conservation of areas within habitat being considered by the Service and local agencies for long-term conservation of the species.

This notice is provided pursuant to section 10(a) of the Act and the regulations of the National Environmental Policy Act (NEPA) of 1969 (40 CFR 1506.6). All comments that we receive, including names and addresses, will become part of the official administrative record and may be made available to the public. We will evaluate the application, associated documents, and comments submitted thereon to determine whether the application meets the requirements of NEPA regulations and section 10(a) of the Act. If we determine that those requirements are met, we will issue a permit to the Applicant for the incidental take of the gnatcatcher. We will make our final permit decision no sooner than 60 days after the date of this notice.

Dated: May 14, 2003.
Ken McDermond,
Deputy Manager, California/Nevada Operations Office, Sacramento, California.

[FR Doc. 03-12679 Filed 5-20-03; 8:45 am]

BILLING CODE 4310-55-P